DEPARTMENT OF ENERGY

Federal Energy Regulatory Commission

[Project No. 12599-016]

Turnbull Hydro, LLC; Notice of Application for Surrender of License and Soliciting Comments, Motions To Intervene, and Protests

January 20, 2010.

Take notice that the following application has been filed with the Commission and is available for public inspection:

a. Application Type: Surrender of License.

b. Project No.: 12599-016.

c. Date Filed: December 17, 2009.

d. Applicant: Turnbull Hydro, LLC.

e. Name of Project: Mill Coulee Drops Hydroelectric Project.

f. Location: The unconstructed project was to be located on the Mill Coulee Canal in Cascade County, Montana.

g. Filed Pursuant to: Federal Power Act, 16 U.S.C. 791a—825r.

h. Applicant Contact: Mr. Ted S. Sorensen, 5203 South 11th Street, Idaho Falls, ID 83404, (208) 522-8069 and Mr. Nicholas E. Josten, Project Engineer, GeoSense, 2742 Saint Charles Avenue, Idaho Falls, ID 83404, (208) 528-6152.

i. FERC Contact: Patricia W. Gillis, Telephone (202) 502-8735.

j. Deadline for filing comments, motions to intervene, and protests: February 18, 2010. Comments, motions to intervene, and protests may be filed electronically via the Internet. See 18 CFR 385.2001(a)(1)(iii) and the instructions on the Commission's Web site under the “eFiling” link. If unable to be filed electronically, documents may be paper-filed. To paper-file, an original and eight copies should be mailed to: Kimberly D. Bose, Secretary, Federal Energy Regulatory Commission, 888 First Street, NE., Washington, DC 20426. For more information on how to submit these types of filings, please go to the Commission's Web site located at http://www.ferc.gov/filing-comments.asp.

k. Description of Request: The licensee filed an application to surrender its license for the unconstructed Mill Coulee Drops Hydroelectric Project. The Licensee has not commenced construction of the project. No ground disturbing activities have occurred.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number excluding the last three digits in the docket number field to access the document. You may also register online at http://www.ferc.gov/docs-filing/esubscription.asp to be notified via e-mail of new filings and issuances related to this or other pending projects. For assistance, call 1-866-208-3676 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—All filings must (1) bear in all capital letters the title “COMMENTS”, “PROTEST”, or “MOTION TO INTERVENE”, as applicable, and the Project Number of the particular application to which the filing refers.

p. Agency Comments—Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-1530 Filed 1-26-10; 8:45 am]

BILLING CODE 6717-01-P